DEPARTMENT OF COMMERCE

Foreign-Trade Zones Board

[B-26-2022]

Foreign-Trade Zone (FTZ) 189—Kent/Ottawa/Muskegon Counties, Michigan; Notification of Proposed Production Activity, GHSP, Inc. (Automotive Products), Grand Haven, Hart and Holland, Michigan

GHSP, Inc., submitted a notification of proposed production activity to the FTZ Board (the Board) for its facilities in Grand Haven, Hart and Holland, Michigan within Subzone 189F. The notification conforming to the requirements of the Board's regulations (15 CFR 400.22) was received on June 15, 2022.

Pursuant to 15 CFR 400.14(b), FTZ production activity would be limited to the specific foreign-status materials/components and specific finished products described in the submitted notification (summarized below) and subsequently authorized by the Board. The benefits that may stem from conducting production activity under FTZ procedures are explained in the background section of the Board's website—accessible via www.trade.gov/ftz.

The proposed finished products include: tube plugs; lock pins; cable brackets for shifters; auxiliary pumps for oil, water and fuel; pump covers; liquid crystal displays (LCD); LED displays; printed circuit boards; touch sensors; motor assemblies; and, automobile shifters (duty rate ranges from duty-free to 3.8%).

The proposed foreign-status materials and components include: butyl rope; grease; bonding adhesives; solder; polypropylene; porene; lubricating gel; adhesives; mounting tapes; pump decor trims; plastic sheets; thermal trays; cable brackets; o-rings; ball bearings; gaskets; shift lock stoppers; shifter boot dust covers; encoder pads; tube plugs; blocker gaskets; printed circuit board gaskets; boot dust covers; electronic cells; bezels; electronic encoders; bezel flocking tapes; cable bracket pivot pins; wire gauges; metal screws; bracket screws; nut flanges; washers; rivets; lock pins; pivot pins; collars; springs—lever; pin shift cables; cable pins; cable brackets; plugs; auxiliary pumps; final pump assemblies, sensorless; pump covers; lamps; filter elements; relief valves; motor bearings; lead nylon spacers; stator overmolds; lamination stack, moldings; transfer switchers; gerotor sets; solenoids; button/pad assemblies; reflector holders; encoders, mode; glass tops; LED drivers; LCDs; transitional 5 burner LED displays; capacitors; resistors; stator boards; fuses; transistors; relays; switches; connectors; touch sensors; motor assemblies, sensorless; light pipes; LEDs; strain gauge sensors; micro sensors; head assembly kits; smart ultra-violet “A” actuators; magnet wires; wire harnesses; drive mode button assemblies; light reflectors; syringes for grease application; and, main housing covers (duty rate ranges from duty-free to 8.5%). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is August 8, 2022.

A copy of the notification will be available for public inspection in the “Online FTZ Information System” section of the Board's website.

For further information, contact Christopher Wedderburn at Chris.Wedderburn@trade.gov.

Dated: June 21, 2022.
Andrew McGilvray,
Executive Secretary.

[FR Doc. 2022-13663 Filed 6-24-22; 8:45 am]

BILLING CODE 3510-DS-P